DEPARTMENT OF EDUCATION

34 CFR Chapter II

[Docket ID: ED-2015-OESE-0129; CFDA Number: 84.371C.]

RIN 1810-AB25

Proposed Priorities, Requirements, Definitions, and Selection Criteria—Striving Readers Comprehensive Literacy Program

AGENCY: Office of Elementary and Secondary Education, Department of Education.

ACTION: Proposed priorities, requirements, definitions, and selection criteria.

SUMMARY: The Assistant Secretary for the Office of Elementary and Secondary Education (Assistant Secretary) proposes priorities, requirements, definitions, and selection criteria under the Striving Readers Comprehensive Literacy (SRCL) program. These proposed priorities, requirements, definitions, and selection criteria would replace the priorities, requirements, definitions, and selection criteria in the SRCL notice inviting applications for new awards for Fiscal Year (FY) 2011, published in the Federal Register on March 10, 2011 (76 FR 13143). The Assistant Secretary may use these priorities, requirements, definitions, and selection criteria for competitions in FY 2016 and later years. We take this action to address an area of national need by providing competitive grant awards to State educational agencies (SEAs) to advance literacy skills, including pre-literacy skills, reading, and writing, for children from birth through grade 12, including English learners and children with disabilities.

DATES: We must receive your comments on or before July 20, 2016.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to use Regulations.gov.”

• Postal Mail, Commercial Delivery, or Hand Delivery: If you mail or deliver your comments about these proposed regulations, address them to Rosemary Fennell, Office of Elementary and Secondary Education, U.S. Department of Education, 400 Maryland Avenue SW., Room 3E228, Washington, DC 20202-6450.

Privacy Note: The Department's policy is to make all comments received from members of the public available for public viewing in their entirety on the Federal eRulemaking Portal at www.regulations.gov. Therefore, commenters should be careful to include in their comments only information that they wish to make publicly available.

FOR FURTHER INFORMATION CONTACT: Rosemary Fennell, (202) 401-2425 or by email: Rosemary.Fennell@ed.gov.

If you use a telecommunications device for the deaf (TDD) or a text telephone (TTY), call the Federal Relay Service (FRS), toll free, at 1-800-877-8339.

SUPPLEMENTARY INFORMATION:

Executive Summary

Purpose of this Regulatory Action: The Department plans to make competitive grant awards under the SRCL program to eligible SEAs for the purpose of advancing literacy skills, including pre-literacy skills, reading, and writing, for children from birth through grade 12, with an emphasis on disadvantaged children, including English learners and children with disabilities.

Summary of the Major Provisions of This Regulatory Action: In this notice, we propose to establish priorities, requirements, definitions, and selection criteria that we may require eligible SEAs to address in order to receive funds under the SRCL program. We have made an effort to align these proposed priorities, requirements, definitions, and selection criteria with certain new statutory requirements, which will apply to any future programs, in accordance with the Department's authority to ensure an orderly transition to the ESEA, as amended by the Every Student Succeeds Act (ESSA).

In this notice, we propose three priorities. The first priority would focus on how SEAs will ensure that (a) the comprehensive literacy instruction programs funded under this grant are supported by moderate evidence of effectiveness or strong evidence of effectiveness and (b) local literacy plans are aligned with the State comprehensive literacy plan. Under the second priority, SEAs would be required to have a high-quality plan that describes the methodology that will be used to ensure that local projects serve the greatest numbers or percentages of disadvantaged children. Finally, the third priority would encourage SEAs to prioritize local literacy plans that align pre-literacy strategies for children aged birth through five with pre-literacy and literacy strategies for students from kindergarten through grade five.

We are also proposing requirements intended to ensure that State literacy teams assess the State comprehensive literacy plans on a regular basis and that these plans include continuous improvement activities. We propose a number of definitions that clarify terms used in the SRCL program. We believe that these terms are important to understanding the complexity of the SRCL program as it relates to comprehensive literacy instruction.

We are proposing selection criteria intended to help identify high-quality applications. These selection criteria would assist the Department in determining the extent to which eligible SEAs submitting applications under the SRCL program will: (1) Provide support and technical assistance, based on an assessment of local needs, to SRCL subgrantees to ensure improvement in the literacy and pre-literacy achievement of children from birth to grade 12 and ensure effectiveness in addressing the needs of disadvantaged children; (2) establish an independent peer review process for awarding subgrants to prioritize awards to eligible subgrantees that propose a high-quality comprehensive literacy instruction program and are supported by moderate or strong evidence of effectiveness; (3) monitor subgrantees' implementation of interventions and practices to ensure fidelity to the local plan, as well as alignment between the SEA's State comprehensive literacy plan and local literacy plan; and (4) award subgrants of sufficient size that target the greatest numbers or percentages of disadvantaged children, to fully and effectively implement the local literacy plan.

Costs and Benefits: We have determined that these proposed priorities, requirements, definitions, and selection criteria would not impose significant costs on eligible SEAs. Program participation is voluntary, and the costs imposed on applicants by these proposed priorities, requirements, definitions, and selection criteria would be limited to paperwork burden related to preparing an application. The potential benefits of implementing the programs would outweigh any costs incurred by applicants, and the costs of actually carrying out activities associated with the application would be paid for with program funds. For these reasons, we have determined that the costs of implementation would not be excessively burdensome for eligible applicants, including small entities.

Invitation to Comment: We invite you to submit comments regarding this notice. To ensure that your comments have maximum effect in developing the notice of final priorities, requirements, definitions, and selection criteria, we urge you to identify clearly the specific proposed priority, requirement, definition, or selection criterion your comment addresses.

We invite you to assist us in complying with the specific requirements of Executive Orders 12866 and 13536 and their overall requirement of reducing regulatory burden that might result from the proposed priorities, requirements, definitions, and selection criteria. Please let us know of any further opportunities we should take to reduce potential costs or increase potential benefits while preserving the effective and efficient administration of the program.

During and after the comment period, you may inspect all public comments about the proposed priorities, requirements, definitions, and selection criteria in Room 3E228, 400 Maryland Avenue SW., Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the SCRL program is to advance literacy skills, including pre-literacy skills, reading, and writing, for all children from birth through grade 12, with a special emphasis on disadvantaged children, including English learners and children with disabilities. Through this program, the Department awards competitive grants to SEAs to support subgrants to local educational agencies (LEAs) or other eligible subgrantees, including early learning providers.

Program Authority: Section 1502 of the Elementary and Secondary Education Act of 1965, as amended by the No Child Left Behind Act of 2001 (ESEA), and Title III of Division H of the Consolidated Appropriations Act, 2016 (Pub. L. 114-113).

Proposed Priorities

This notice contains three proposed priorities.

Proposed Priority 1—Interventions and Practices Supported by Moderate or Strong Evidence of Effectiveness.

Background: In recent years, the Department has emphasized evidence-based practices in grant competitions.¹ We believe that encouraging applicants to focus on proven comprehensive literacy instruction practices enhances the quality of programs funded through our competitions, improves outcomes for participating children, and generates a better return on investment for taxpayer funds. In the previous SRCL competition conducted in 2011, the Department scored applications on the extent to which SEAs gave priority to eligible subgrantees that submitted applications supported by the strongest available evidence. With this proposed priority, we intend to clarify and expand upon those efforts by further promoting comprehensive literacy instruction, in the local literacy plans submitted by eligible subgrantees, by ensuring that those plans have been carefully and rigorously evaluated and will have positive impacts on literacy outcomes.

¹ In October 2015, the National Center for Education Statistics released a summary of the evidence generated by grants under the Striving Readers program awarded in 2006 and 2009 to raise the literacy levels of middle and high school students reading below grade level. Fifteen of the 17 evaluations of the interventions met WWC evidence standards with or without reservations. This body of evidence substantially increases the amount of credible information available to district administrators trying to decide how to best meet the needs of struggling adolescent readers. Institute of Education Sciences, National Center for Education Evaluation and Regional Assistance USED, Striving Readers on the Effectiveness of Interventions for Struggling Adolescent Readers, available at http://ies.ed.gov/ncee/pubs/20164001/pdf/20164001.pdf.

Proposed Priority: Under this proposed priority, a State educational agency (SEA) must ensure that evidence plays a central role in the SRCL subgrants. Specifically, in its high-quality plan, an SEA must assure (1) that it will use an independent peer review process to prioritize awards to eligible subgrantees that propose a high-quality comprehensive literacy instruction program, and that meet the conditions set forth in the definition of moderate evidence of effectiveness or strong evidence of effectiveness (as defined in 34 CFR 77.1), where evidence is applicable and available, and (2) that the comprehensive literacy instruction program proposed by eligible subgrantees will align with the State's comprehensive literacy plan as well as local needs.

Proposed Priority 2—Serving Disadvantaged Children.

Background: Developing and improving the literacy skills of disadvantaged children is essential to improving children's academic achievement in all subjects and for ensuring that children are ready for college and career. Disadvantaged children often struggle in grades as early as kindergarten to develop necessary reading skills,² and literacy gaps between these children and other children often persist in later grades.³ Because the literacy skills of young children in grades as early as third grade have been connected to later outcomes, such as high school graduation and postsecondary enrollment,⁴ we believe that an important focus of this program should be investing in the pre-literacy and literacy skills of disadvantaged children, including English learners and children with disabilities.

² Mulligan, G.M., Hastedt, S., and McCarroll, J.C. (2012). First-Time Kindergartners in 2010-11: First Findings From the Kindergarten Rounds of the Early Childhood Longitudinal Study, Kindergarten Class of 2010-11 (ECLS-K:2011) (NCES 2012-049). U.S. Department of Education. Washington, DC: National Center for Education Statistics. Retrieved September 9, 2015 from https://nces.ed.gov/pubsearch/pubsinfo.asp?pubid=2012049.

³ In 2013, results from the National Assessment of Educational Progress (NAEP) Reading Assessment in the 4th and 8th grade show that a higher percentage of the following student groups performed “Below Basic” compared to other student groups in the same category: (1) Students who are eligible for Free- and Reduced-Price Lunch; (2) black and Hispanic students; (3) English learners; and (4) students with disabilities. U.S. Department of Education, Institute of Education Sciences, National Center for Education Statistics, National Assessment of Educational Progress, 2013 Reading Assessment. Retrieved September 3, 2015, from the Main NAEP Data Explorer (http://nces.ed.gov/nationsreportcard/naepdata/.

⁴ Lesnick, J., Goerge, R., Smithgall, C., & Gwynne J. (2010). Reading on Grade Level in Third Grade: How Is It Related to High School Performance and College Enrollment? Chicago: Chapin Hall at the University of Chicago. Retrieved September 9, 2015 from www.aecf.org/m/resourcedoc/aecf-ReadingonGradeLevelLongAnal-2010.PDF.

Proposed Priority: To meet this priority, an SEA must describe in its application a high-quality plan to award subgrants that will serve the greatest numbers or percentages of disadvantaged children, including English learners and children with disabilities.

Proposed Priority 3—Alignment within a Birth through Fifth Grade Continuum.

Background: The Department is interested in ensuring that the gains children make in early learning programs supported by SRCL funds are sustained throughout their education, particularly the elementary years. Meeting this objective necessitates close alignment at a State and local level between preschool and elementary education programs; building a preschool through fifth grade system will help to sustain student success, which is especially important in the context of literacy development for disadvantaged children, including English learners and children with disabilities.

Proposed Priority: Under this proposed priority, an SEA must describe in its application a high-quality plan to align literacy projects supported by this grant that serve children from birth to age five with programs and systems that serve students in kindergarten through grade five to improve school readiness and transitions for children across this continuum.

Types of Priorities: When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Proposed Requirements:

Background: Because the purpose of this program is to advance literacy and pre-literacy skills for all children, we propose that SEAs must ensure that their State literacy teams assess the State comprehensive literacy plans on a regular basis and that these plans include continuous improvement activities. Additionally, to ensure that the comprehensive literacy instruction programs at the local level are supported by the most recent, up-to-date research, we propose that SEAs require eligible subgrantees to submit local literacy plans.

This NPP adds the statutory supplement-not-supplant requirement found in section 2301 of the ESEA, as amended by the ESSA, to SRCL.

Proposed Requirements: The Assistant Secretary proposes the following requirements for this program. We may apply one or more of these requirements in any year in which this program is in effect.

State Comprehensive Literacy Plan: To be considered for an award under this program, an SEA must submit a State comprehensive literacy plan developed with the assistance of its State literacy team. Additionally, the plan must be reviewed by the State literacy team and updated annually if an SEA receives an award under this program.

Local Literacy Plan: Grantees must ensure that they will only fund subgrantees that submit a local literacy plan that: (1) Is informed by a comprehensive needs assessment; (2) provides for professional development that is aligned with the State comprehensive literacy plan; (3) includes interventions and practices that are supported by moderate evidence of effectiveness or strong evidence of effectiveness (as defined in 34 CFR 77.1), where evidence is applicable and available; and (4) includes a plan to track children's outcomes consistent with all applicable privacy requirements.

Prioritization of Subgrants: In selecting among eligible subgrantees, an SEA must give priority to eligible subgrantees serving greater numbers or percentages of disadvantaged children.

Continuous Program Improvement: Grantees must use data, including the results of monitoring and evaluations, and other administrative data, to inform the program's continuous improvement and decision-making, to improve program participant outcomes, and to ensure that disadvantaged children are served. Additionally, grantees must ensure that subgrantees, educators, families, and other key stakeholders receive the results of the evaluations conducted on the effectiveness of the program in a timely fashion, consistent with all applicable Federal, State, and other privacy requirements.

Supplement not Supplant: Grantees must use funds under this program to supplement, and not supplant, any non-Federal funds that would be used to advance literacy skills for children from birth through grade 12.

Proposed Definitions:

Background: There are several terms associated with the SRCL program. These terms are not defined in section 1502 of the ESEA, the Education Department General Administrative Regulations (EDGAR), or other general regulations that apply to this program.

Proposed Definitions: The Assistant Secretary proposes the following definitions for this program. We may apply one or more of these definitions in any year in which this program is in effect.

Comprehensive literacy instruction means instruction that—

(a) Includes developmentally appropriate, contextually explicit, and systematic instruction, and frequent practice, in reading and writing across content areas;

(b) Includes age-appropriate, explicit, systematic, and intentional instruction in phonological awareness, phonic decoding, vocabulary, language structure, reading fluency, and reading comprehension;

(c) Includes age-appropriate, explicit instruction in writing, including opportunities for children to write with clear purposes, with critical reasoning appropriate to the topic and purpose, and with specific instruction and feedback from instructional staff;

(d) Makes available and uses diverse, high-quality print materials that reflect the reading and development levels, and interests, of children;

(e) Uses differentiated instructional approaches, including individual and small group instruction and discussion;

(f) Provides opportunities for children to use language with peers and adults in order to develop language skills, including developing vocabulary;

(g) Includes frequent practice of reading and writing strategies;

(h) Uses age-appropriate, valid, and reliable screening assessments, diagnostic assessments, formative assessment processes, and summative assessments to identify a child's learning needs, to inform instruction, and to monitor the child's progress and the effects of instruction;

(i) Uses strategies to enhance children's motivation to read and write and children's engagement in self-directed learning;

(j) Incorporates the principles of universal design for learning;

(k) Depends on teachers' collaboration in planning, instruction, and assessing a child's progress and on continuous professional learning; and

(l) Links literacy instruction to the State's challenging academic standards, including standards relating to the ability to navigate, understand, and write about complex subject matters in print and digital formats.

Disadvantaged child means a child from birth to grade 12 who is at risk of educational failure or otherwise in need of special assistance and support, including a child with a disability or who is an English learner. This term may also include a child who is living in poverty, who is far below grade level, who has left school before receiving a regular high school diploma, who is at risk of not graduating with a diploma on time, who is homeless, who is in foster care, or who has been incarcerated.

Eligible subgrantee means one or more local educational agencies (LEAs) or, in the case of early literacy, one or more LEAs or nonprofit providers of early childhood education with a demonstrated record of effectiveness in improving early literacy development of children from birth through kindergarten entry and in providing professional development in early literacy.

High-quality plan means any plan developed by the State educational agency (SEA) that is feasible and has a high probability of successful implementation and, at a minimum, includes—

(a) The key goals of the plan;

(b) The key activities to be undertaken and the rationale for how the activities support the key goals;

(c) A realistic timeline, including key milestones, for implementing each key activity;

(d) The party or parties responsible for implementing each activity and other key personnel assigned to each activity;

(e) A strong theory, including a rationale for the plan and a corresponding logic model as defined in 34 CFR 77.1;

(f) Performance measures at the State and local levels; and

(g) Appropriate financial resources to support successful implementation of the plan.

Independent peer review means a high-quality, transparent review process informed by outside individuals with expertise in literacy development and education for children from birth through grade 12.

Professional development means activities that—

(a) Are an integral part of school and LEA strategies for providing educators (including teachers, principals, other school leaders, specialized instructional support personnel, paraprofessionals, and, as applicable, early childhood educators) with the knowledge and skills necessary to enable students to succeed in a well-rounded education and to meet the State's challenging academic standards;

(b) Are sustained (not stand-alone, one-day, or short term workshops), intensive, collaborative, job-embedded, data-driven, and classroom-focused; and

(c) May include activities that—

(1) Improve and increase teachers'—

(i) Knowledge of the academic subjects the teachers teach;

(ii) Understanding of how students learn; or

(iii) Ability to analyze student work and achievement from multiple sources, including how to adjust instructional strategies, assessments, and materials based on such analysis;

(2) Are an integral part of broad schoolwide and districtwide educational improvement plans;

(3) Allow personalized plans for each educator to address the educator's specific needs identified in observation or other feedback;

(4) Improve classroom management skills;

(5) Support the recruitment, hiring, and training of effective teachers, including teachers who became certified through State and local alternative routes to certification;

(6) Advance teacher understanding of—

(i) Effective instructional strategies that are evidence-based; or

(ii) Strategies for improving student academic achievement or substantially increasing the knowledge and teaching skills of teachers;

(7) Are aligned with, and directly related to, academic goals of the school or LEA;

(8) Are developed with extensive participation of teachers, principals, other school leaders, parents, representatives of Indian tribes (as applicable), and administrators of schools to be served under this program;

(9) Are designed to give teachers of English learners, and other teachers and instructional staff, the knowledge and skills to provide instruction and appropriate language and academic support services to those children, including the appropriate use of curricula and assessments;

(10) To the extent appropriate, provide training for teachers, principals, and other school leaders in the use of technology (including education about the harms of copyright piracy), so that technology and technology applications are effectively used in the classroom to improve teaching and learning in the curricula and academic subjects in which the teachers teach;

(11) As a whole, are regularly evaluated for their impact on teacher effectiveness and student academic achievement, with the findings of the evaluations used to improve the quality of professional development;

(12) Are designed to give teachers of children with disabilities or children with developmental delays, and other teachers and instructional staff, the knowledge and skills to provide instruction and academic support services to those children, including positive behavioral interventions and supports, multi-tier system of supports, and use of accommodations;

(13) Provide instruction in the use of data and assessments to inform and instruct classroom practice;

(14) Provide instruction in ways that teachers, principals, other school leaders, specialized instructional support personnel, and school administrators may work more effectively with parents and families;

(15) Involve the forming of partnerships with institutions of higher education, including, as applicable, Tribal Colleges and Universities as defined in section 316(b) of the Higher Education Act of 1965, as amended (20 U.S.C. 1059c(b)), to establish school-based teacher, principal, and other school leader training programs that provide prospective teachers, novice teachers, principals, and other school leaders with an opportunity to work under the guidance of experienced teachers, principals, other school leaders, and faculty of such institutions;

(16) Create programs to enable paraprofessionals (assisting teachers employed by a local educational agency receiving assistance under part A of title I) to obtain the education necessary for those paraprofessionals to become certified and licensed teachers;

(17) Provide follow-up training to teachers who have participated in activities described in this paragraph that are designed to ensure that the knowledge and skills learned by the teachers are implemented in the classroom; or

(18) Where practicable, provide for school staff and other early childhood education program providers to address jointly the transition to elementary school, including issues related to school readiness.

State comprehensive literacy plan means a plan that addresses the pre-literacy and literacy needs of children from birth through grade 12, with special emphasis on disadvantaged children. A State comprehensive literacy plan aligns policies, resources, and practices; contains clear instructional goals; sets high expectations for all children and subgroups of children; and provides for professional development for all teachers in effective literacy instruction.

State literacy team means a team comprised of individuals with expertise in literacy development and education for children from birth through grade 12. The State literacy team must include individuals with expertise in the following areas:

(a) Implementing literacy development practices and instruction for children in the following age/grade levels: Birth to school entry, kindergarten through grade 5, grades 6 through 8, and grades 9 through 12;

(b) Managing and implementing evidence-based literacy programs;

(c) Evaluating literacy programs;

(d) Planning for and implementing effective literacy interventions and practices, particularly for disadvantaged children, struggling readers, English learners, and children with disabilities;

(e) Implementing assessments in the areas of phonological awareness, word recognition, phonics, vocabulary, comprehension, fluency, and writing; and

(f) Implementing professional development on literacy development and instruction.

A literacy team member may have expertise in more than one area. Team members may also include: Library/media specialists; parents; literacy coaches; instructors of adult education; representatives of community-based organizations providing educational services to disadvantaged children and families; family literacy service providers; representatives from local or State school boards; and representatives from related child services agencies.

Universal design for learning, as defined under section 103 of the Higher Education Act of 1965, as amended, means a scientifically valid framework for guiding educational practice that—

(A) Provides flexibility in the ways information is presented, in the ways students respond or demonstrate knowledge and skills, and in the ways students are engaged; and

(B) Reduces barriers in instruction, provides appropriate accommodations, supports, and challenges, and maintains high achievement expectations for all students, including students with disabilities and students who are limited English proficient.⁵

⁵ English learner and limited English proficient have the same meaning.

Proposed Selection Criteria:

Background: We believe the following proposed selection criteria would contribute to our efforts to fund high-quality applications that will promote comprehensive literacy instruction programs under this grant.

Proposed Selection Criteria: The Assistant Secretary proposes the following selection criteria for evaluating an application under this program. We may apply one or more of these criteria in any year in which this program is in effect. In the notice inviting applications, the application package, or both, we will announce the maximum possible points assigned to each criterion.

(a) State-level activities.

(1) The extent to which the SEA will support and provide technical assistance to its SRCL program subgrantees to ensure they implement a high-quality comprehensive literacy instruction program that will improve student achievement, including technical assistance on identifying and implementing with fidelity, interventions and practices that are supported by moderate evidence of effectiveness or strong evidence of effectiveness (as defined in 34 CFR 77.1), and align with local needs.

(2) The extent to which the SEA will collect data and other information to inform the continuous improvement, and evaluate the effectiveness and impact, of local projects.

(b) SEA plan for subgrants.

The extent to which the SEA has a high-quality plan to use an independent peer review process to award subgrants that propose a high-quality comprehensive literacy instruction program, including:

(1) A plan to prioritize projects that will use interventions and practices that are supported by moderate evidence of effectiveness or strong evidence of effectiveness (as defined in 34 CFR 77.1); and

(2) A process to determine—

(i) The alignment of the local project to the State's comprehensive literacy plan and local needs;

(ii) The relevance of cited studies to the project proposed and identified needs; and

(iii) The extent to which the intervention or practice is supported by moderate evidence of effectiveness or strong evidence of effectiveness, as defined in 34 CFR 77.1.

(c) SEA monitoring plan.

(1) The extent to which the SEA describes a high-quality plan for monitoring local projects, including how it will ensure that: (i) The interventions and practices that are part of the comprehensive literacy instruction program are aligned with the SEA's State comprehensive literacy plan and; (ii) the interventions and practices that subgrantees implement are supported by moderate evidence of effectiveness or strong evidence of effectiveness (as defined in 34 CFR 77.1), to the extent appropriate and available; and (iii) these interventions and practices are implemented with fidelity and aligned with the SEA's State comprehensive literacy plan and local needs.

(d) Alignment of Resources.

The extent to which the SEA will: (1) Target subgrants supporting projects that will improve instruction for the greatest numbers or percentages of disadvantaged children; and (2) award subgrants of sufficient size to fully and effectively implement the local plan while also ensuring that at least—

(i) 15 percent of the subgranted funds serve children from birth through age five;

(ii) 40 percent of the subgranted funds serve students in kindergarten through grade five; and

(iii) 40 percent of the subgranted funds serve students in middle and high school, through grade 12, including an equitable distribution of funds between middle and high schools.

Final Priorities, Requirements, Definitions, and Selection Criteria: We will announce the final priorities, requirements, definitions, and selection criteria in a notice in the Federal Register. We will determine the final priorities, requirements, definitions, and selection criteria after considering responses to this notice and other information available to the Department. This notice does not preclude us from proposing additional priorities, requirements, definitions, or selection criteria, subject to meeting applicable rulemaking requirements.

Note: This notice does not solicit applications. In any year in which we choose to use one or more of these proposed priorities, requirements, definitions, and selection criteria, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action would have an annual effect on the economy of more than $100 million because the amount of government transfers through the SRCL program exceeds that amount. Therefore, this proposed action is “economically significant” and subject to review by OMB under section 3(f)(1) of Executive Order 12866. Notwithstanding this determination, we have assessed the potential costs and benefits, both quantitative and qualitative, of this proposed regulatory action and have determined that the benefits would justify the costs.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities, requirements, definitions, and selection criteria only on a reasoned determination that their benefits would justify their costs. In choosing among alternative regulatory approaches, we selected those approaches that would maximize net benefits. Based on the analysis that follows, the Department believes that this regulatory action is consistent with the principles in Executive Order 13563.

We also have determined that this proposed regulatory action would not unduly interfere with State, local, and tribal governments in the exercise of their governmental functions.

In this regulatory impact analysis we discuss the need for regulatory action, the potential costs and benefits, net budget impacts, assumptions, limitations, and data sources, as well as regulatory alternatives we considered.

Need for Regulatory Action

These proposed priorities, requirements, definitions, and selection criteria are needed to implement the SRCL program award process in the manner that the Department believes will best enable the program to achieve its objectives of implementing effective literacy and pre-literacy interventions and practices, at the local level, for disadvantaged children.

Potential Costs and Benefits

The Department believes that the proposed priorities, requirements, definitions, and selection criteria would not impose significant costs on SEAs. Program participation is voluntary, and the costs imposed on applicants by the proposed priorities, requirements, definitions, and selection criteria would be limited to paperwork burden related to preparing an application. The potential benefits of implementing the program using the proposed priorities, requirements, definitions, and selection criteria would outweigh any costs incurred by applicants, and the costs of actually carrying out activities associated with the application would be paid for with program funds. For these reasons, the Department has determined that the costs of implementation would not be an undue burden for eligible applicants, including small entities.

Accounting Statement

As required by OMB Circular A-4 (available at www.whitehouse.gov/sites/default/files/omb/assets/omb/circulars/a004/a&-4.pdf), in the following table we have prepared an accounting statement showing the classification of the expenditures associated with the provisions of this regulatory action. This table provides our best estimate of the changes in annual monetized transfers as a result of this regulatory action. Expenditures are classified as transfers from the Federal Government to SEAs.

Accounting Statement Classification of Estimated Expenditures
[In millions]
Category | Transfers
Annualized Monetized Transfers | $190M.
From Whom To Whom? | From Federal Government to SEAs.

The SRCL program would provide approximately $190,000,000 in competitive grants to eligible SEAs.

Paperwork Reduction Act of 1995

As part of its continuing effort to reduce paperwork and respondent burden, the Department provides the general public and Federal agencies with an opportunity to comment on proposed and continuing collections of information in accordance with the Paperwork Reduction Act of 1995 (PRA) (44 U.S.C. 3506(c)(2)(A)). This helps ensure that: The public understands the Department's collection instructions, respondents can provide the requested data in the desired format, reporting burden (time and financial resources) is minimized, collection instruments are clearly understood, and the Department can properly assess the impact of collection requirements on respondents.

We estimate that each applicant would spend approximately 240 hours of staff time to address the proposed priorities, requirements, definitions, and selection criteria, prepare the application, and obtain necessary clearances. We expect to receive approximately 52 applications. Therefore, for the 52 States (including the District of Columbia and Puerto Rico), the total burden for completing this grant application is 12,480 burden hours. The respondent cost is estimated at $40 per hour for each application. The total cost for approximately 52 respondents is $499,200 (52 respondents × 240 hours × $40/hour = $499,200).

We have prepared an Information Collection Request (ICR) for this collection (1810-NEW). If you want to review and comment on the ICR, please follow the instructions listed under the ADDRESSES section of this notice.

Note: The Office of Information and Regulatory Affairs in OMB and the Department of Education review all comments posted at www.regulations.gov.

In preparing your comments you may want to review the ICR, including the supporting materials, in www.regulations.gov by using the Docket ID number specified in this notice. This proposed collection is identified as proposed collection 1810-AB25.

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the information we collect; and

• Minimizing the burden on those who must respond. This includes exploring the use of appropriate automated, electronic, mechanical, or other technological collection techniques.

Between 30 and 60 days after publication of this document in the Federal Register, OMB is required to make a decision concerning the collection of information contained in these proposed priorities, requirements, definitions, and selection criteria. Therefore, to ensure that OMB gives your comments full consideration, it is important that OMB receives your comments on this ICR by July 20, 2016. This does not affect the deadline for your comments to us on the proposed priorities, requirements, definitions, and selection criteria.

If your comments relate to the ICR for these proposed priorities, requirements, definitions, and selection criteria, please specify the Docket ID number and indicate “Information Collection Comments” on the top of your comments.

Written requests for information or comments submitted by postal mail or delivery related to the information collection requirements should be addressed to the Director of the Information Collection Clearance Division, U.S. Department of Education, 400 Maryland Avenue SW., Mailstop L-OM-2E319LBJ, Room 2E115, Washington, DC 20202-4537.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 15, 2016.
Ann Whalen,
Delegated the authority to perform the functions and duties of Assistant Secretary for Elementary and Secondary Education.

[FR Doc. 2016-14529 Filed 6-17-16; 8:45 am]

BILLING CODE 4000-01-P